DEPARTMENT OF ENERGY

Federal Energy Regulatory Commission

Combined Notice of Filings #1

Take notice that the Commission received the following exempt wholesale generator filings:

Docket Numbers: EG20-239-000.

Applicants: Greensville County Solar Project, LLC.

Description: Notice of Self-Certification of Exempt Wholesale Generator Status of Greensville County Solar Project, LLC.

Filed Date: 8/28/20.

Accession Number: 20200828-5193.

Comments Due: 5 p.m. ET 9/18/20.

Take notice that the Commission received the following electric rate filings:

Docket Numbers: ER15-1471-010; ER16-915-003; ER15-1672-009; ER10-2861-008; ER19-2287-001; ER16-2010-004; ER19-2289-001; ER19-2294-001; ER12-1308-011; ER16-711-007; ER16-2561-004; ER13-1504-009; ER19-2305-001.

Applicants: Blue Sky West, LLC, Comanche Solar PV, LLC, Evergreen Wind Power II, LLC, Fountain Valley Power, L.L.C. Goal Line L.P., Hancock Wind, LLC, KES Kingsburg, L.P, Mesquite Power, LLC, Palouse Wind, LLC, Pio Pico Energy Center, LLC, Sunflower Wind Project, LLC, SWG Arapahoe, LLC, Valencia Power, LLC.

Description: Notice of Non-Material Change in Status of Blue Sky West, LLC, et al.

Filed Date: 8/28/20.

Accession Number: 20200828-5159.

Comments Due: 5 p.m. ET 9/18/20.

Docket Numbers: ER19-1741-001; ER17-1603-002; ER17-1037-003; ER17-2245-002; ER14-2140-009; ER14-2141-009.

Applicants: Dominion Energy South Carolina, Inc., Dominion Energy Generation Marketing, Inc, Innovative Solar 37, LLC, Moffett Solar 1, LLC, Mulberry Farm, LLC, Selmer Farm, LLC.

Description: Updated Market Power Analysis, et al. of the Dominion Southeast MBR Sellers.

Filed Date: 8/27/20.

Accession Number: 20200827-5260.

Comments Due: 5 p.m. ET 10/26/20.

Docket Numbers: ER20-939-001.

Applicants: PJM Interconnection, L.L.C.

Description: Compliance filing: Compliance to Revise Tariff in Docket No. EL18-26, AD18-8, ER20-939 to be effective 4/6/2020.

Filed Date: 8/28/20.

Accession Number: 20200828-5187.

Comments Due: 5 p.m. ET 9/18/20.

Docket Numbers: ER20-1719-001.

Applicants: PPL Electric Utilities Corporation, PJM Interconnection, L.L.C.

Description: Compliance filing: PPL Electric submits Compliance Filing in ER20-1719 re: Order 864 to be effective 1/27/2020.

Filed Date: 8/27/20.

Accession Number: 20200827-5199.

Comments Due: 5 p.m. ET 9/17/20.

Docket Numbers: ER20-1942-002.

Applicants: Midcontinent Independent System Operator, Inc.

Description: Tariff Amendment: 2020-08-28_Deficiency Response to Conventional Resource Deliverability Filing to be effective 8/12/2020.

Filed Date: 8/28/20.

Accession Number: 20200828-5107.

Comments Due: 5 p.m. ET 9/18/20.

Docket Numbers: ER20-2318-001.

Applicants: Milford Solar I, LLC.

Description: Tariff Amendment: Amendment to 1 to be effective 8/11/2020.

Filed Date: 8/28/20.

Accession Number: 20200828-5130.

Comments Due: 5 p.m. ET 9/18/20.

Docket Numbers: ER20-2759-000.

Applicants: Virginia Electric and Power Company.

Description: Request for Limited Waiver, or Alternatively Remedial Relief, et al. of Virginia Electric and Power Company.

Filed Date: 8/27/20.

Accession Number: 20200827-5204.

Comments Due: 5 p.m. ET 9/17/20.

Docket Numbers: ER20-2760-000.

Applicants: PJM Interconnection, L.L.C.

Description: § 205(d) Rate Filing: Original WMPA, Service Agreement No. 5752; Queue No. AF2-432 to be effective 8/18/2020.

Filed Date: 8/28/20.

Accession Number: 20200828-5018.

Comments Due: 5 p.m. ET 9/18/20.

Docket Numbers: ER20-2761-000.

Applicants: Southwest Power Pool, Inc.

Description: § 205(d) Rate Filing: 1628R18 Western Farmers Electric Cooperative NITSA NOA to be effective 8/1/2020.

Filed Date: 8/28/20.

Accession Number: 20200828-5025.

Comments Due: 5 p.m. ET 9/18/20.

Docket Numbers: ER20-2762-000.

Applicants: PJM Interconnection, L.L.C.

Description: § 205(d) Rate Filing: Revisions to Sch. 12-Appx A: July 2020 RTEP, 30-Day Comment Period Requested to be effective 11/26/2020.

Filed Date: 8/28/20.

Accession Number: 20200828-5120.

Comments Due: 5 p.m. ET 9/18/20.

Docket Numbers: ER20-2763-000.

Applicants: Golden Spread Electric Cooperative, Inc.

Description: § 205(d) Rate Filing: WPC Sched B Modification Filing to be effective 11/1/2020.

Filed Date: 8/28/20.

Accession Number: 20200828-5111.

Comments Due: 5 p.m. ET 9/18/20.

Docket Numbers: ER20-2764-000.

Applicants: Midcontinent Independent System Operator, Inc, Northern States Power Company, a Minnesota corporation.

Description: § 205(d) Rate Filing: 2020-08-28_SA 3552 NSP-GRE-OTP-WMMPA-CMMPA T-T (Steep Bank) to be effective 9/30/2019.

Filed Date: 8/28/20.

Accession Number: 20200828-5115.

Comments Due: 5 p.m. ET 9/18/20.

Docket Numbers: ER20-2765-000.

Applicants: Alabama Power Company.

Description: § 205(d) Rate Filing: SEPA Network Agreement Amendment Filing (Revision No. 8) to be effective 8/1/2020.

Filed Date: 8/28/20.

Accession Number: 20200828-5116.

Comments Due: 5 p.m. ET 9/18/20.

Docket Numbers: ER20-2766-000.

Applicants: Alabama Power Company.

Description: § 205(d) Rate Filing: SEPA Network Agreement Amendment Filing (Revision No. 9) to be effective 7/31/2020.

Filed Date: 8/28/20.

Accession Number: 20200828-5117.

Comments Due: 5 p.m. ET 9/18/20.

Docket Numbers: ER20-2767-000.

Applicants: New York Independent System Operator, Inc, New York State Electric & Gas Corporation.

Description: § 205(d) Rate Filing: Joint filing of SGIA among NYISO, NYSEG and Puckett Solar, SA 2545 to be effective 8/18/2020.

Filed Date: 8/28/20.

Accession Number: 20200828-5128.

Comments Due: 5 p.m. ET 9/18/20.

Docket Numbers: ER20-2768-000.

Applicants: Greensville County Solar Project, LLC.

Description: Baseline eTariff Filing: Application for Market-Based Rate Authoritization to be effective 10/21/2020.

Filed Date: 8/28/20.

Accession Number: 20200828-5131.

Comments Due: 5 p.m. ET 9/18/20.

Docket Numbers: ER20-2769-000.

Applicants: Tri-State Generation and Transmission Association, Inc

Description: Tariff Cancellation: Notice of Cancellation of Service Agreement No. 606 to be effective 12/31/2019.

Filed Date: 8/28/20.

Accession Number: 20200828-5148.

Comments Due: 5 p.m. ET 9/18/20.

Docket Numbers: ER20-2770-000.

Applicants: Tri-State Generation and Transmission Association, Inc.

Description: § 205(d) Rate Filing: Amendment to Service Agreement No. 813 to be effective 2/25/2020.

Filed Date: 8/28/20.

Accession Number: 20200828-5151.

Comments Due: 5 p.m. ET 9/18/20.

Docket Numbers: ER20-2771-000.

Applicants: Guzman Western Slope LLC.

Description: Baseline eTariff Filing: Baseline new to be effective 8/29/2020.

Filed Date: 8/28/20.

Accession Number: 20200828-5152.

Comments Due: 5 p.m. ET 9/18/20.

Take notice that the Commission received the following electric securities filings:

Docket Numbers: ES20-53-000.

Applicants: Montana-Dakota Utilities Co.

Description: Amendment to Application [Exbibits, C, D & E] Under Section 204 of the Federal Power Act for Authorization to Issue Securities, et al. of Montana-Dakota Utilities Co.

Filed Date: 8/27/20.

Accession Number: 20200827-5227.

Comments Due: 5 p.m. ET 9/1/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 28, 2020.
Nathaniel J. Davis, Sr.,
Deputy Secretary.

[FR Doc. 2020-19486 Filed 9-2-20; 8:45 am]

BILLING CODE 6717-01-P